NUCLEAR REGULATORY COMMISSION

Sunshine Act Meeting

Dates: Weeks of October 18, 25, November 1, 8, 15, 22, 2004.

Place: Commissioner's Conference Room, 11555 Rockville Pike, Rockville, Maryland.

Status: Public and closed.

Matters to be Considered:

Week of October 18, 2004

There are no meetings scheduled for the Week of October 18, 2004.

Week of October 25, 2004—Tentative

There are no meetings scheduled for the Week of October 25, 2004.

Week of November 1, 2004—Tentative

There are no meetings scheduled for the Week of November 1, 2004.

Week of November 8, 2004—Tentative

Monday, November 8, 2004

9 a.m.—Briefing on Plant Aging and Material Degradation—Part One (Public Meeting) (Contact: Steve Koenick, 301-415-1239)

1:30 p.m.—Briefing on Plant Aging and Material Degradation Issues—Part Two (Public Meeting) (Contact: Steve Koenick, 301-415-1239)

This meeting (both parts) will be webcast live at the Web address— http://www.nrc.gov.

Tuesday, November 9, 2004

9:30 a.m.—Briefing on Reactor Safety and Licensing Activities (Public Meeting) (Contact: Steve Koenick, 301-415-1239)

This meeting will be webcast live at the Web address— http://www.nrc.gov.

Week of November 15, 2004—Tentative

Tuesday, November 16, 2004

9:30 a.m.—Briefing on Threat Environment Assessment (Closed—Ex. 1)

Wednesday, November 17, 2004

9:30 a.m.—Discussion of Security Issues (Closed—Ex. 1)

Week of November 22, 2004—Tentative

There are no meetings scheduled for the Week of November 22, 2004.

The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 14, 2004.
Dave Gamberoni,
Office of the Secretary.

[FR Doc. 04-23425 Filed 10-15-04; 10:45 am]

BILLING CODE 7590-01-M